POSTAL SERVICE

Board of Governors; Sunshine Act Meeting

Notification of Change in Location and Start Time

Previous Announcement: 75 FR 1088, January 8, 2010.

Previously Announced Date of Meeting: January 11 and 12, 2010.

Status: Closed.

Change In Meeting Location and Time: Change location to Washington, DC, at U.S. Postal Service Headquarters, 475 L'Enfant Plaza, SW., and change start time to January 12 at 10 a.m.

FOR MORE INFORMATION CONTACT: Julie S. Moore, Secretary of the Board, U.S. Postal Service, 475 L'Enfant Plaza, SW., Washington, DC 20260-1000. Telephone (202) 268-4800.

Julie S. Moore,
Secretary.

[FR Doc. 2010-736 Filed 1-12-10; 4:15 pm]

BILLING CODE 7710-12-M